ENVIRONMENTAL PROTECTION AGENCY

[EPA-HQ-OPP-2005-0291; FRL-8201-7]

Agency Information Collection Activities; Submission to OMB for Review and Approval; Comment Request; Tolerance Petitions for Pesticides on Food/Feed Crops and New Inert Ingredients, EPA ICR No. 0597.09, OMB Control No. 2070-0024

AGENCY: Environmental Protection Agency (EPA).

ACTION: Notice.

SUMMARY: In compliance with the Paperwork Reduction Act (44 U.S.C. 3501 et seq.), this document announces that an Information Collection Request (ICR) has been forwarded to the Office of Management and Budget (OMB) for review and approval. This is a request to renew an existing approved collection. This ICR is scheduled to expire on August 31, 2006. Under OMB regulations, the Agency may continue to conduct or sponsor the collection of information while this submission is pending at OMB. This ICR describes the nature of the information collection and its estimated burden and cost.

DATES: Additional comments may be submitted on or before August 21, 2006.

ADDRESSES: Submit your comments, referencing Docket ID No. EPA-HQ-OPP-2005-0291, to (1) EPA online using http://www.regulations.gov (our preferred method), or by mail to: Public Information and Records Integrity Branch (PIRIB), Mail Code: 7502C, Office of Pesticide Programs (OPP), Environmental Protection Agency, 1200 Pennsylvania Ave., NW., Washington, DC 20460, and (2) OMB by mail to: Office of Information and Regulatory Affairs, Office of Management and Budget (OMB), Attention: Desk Officer for EPA, 725 17th Street, NW., Washington, DC 20503.

FOR FURTHER INFORMATION CONTACT: Nathanael R. Martin, Field and External Affairs Division, Office of Pesticide Programs, 7506C, Environmental Protection Agency, 1200 Pennsylvania Ave., NW., Washington, DC 20460; telephone number: (703) 305-6475; fax number: (703) 305-5884; e-mail address: martin.nathanael@epa.gov.

SUPPLEMENTARY INFORMATION: EPA has submitted the following ICR to OMB for review and approval according to the procedures prescribed in 5 CFR 1320.12. On November 16, 2005 (70 FR 69548), EPA sought comments on this ICR pursuant to 5 CFR 1320.8(d). EPA received no comments. Any additional comments on this ICR should be submitted to EPA and OMB within 30 days of this notice.

EPA has established a public docket for this ICR under Docket ID No. EPA-HQ-OPP-2005-0291, which is available for public viewing at the OPP Docket in the EPA Docket Center (EPA/DC), EPA West, Room B102, 1301 Constitution Ave., NW., Washington, DC. The EPA Docket Center Public Reading Room telephone number is (202) 566-1744. An electronic version of the public docket is available through http://www.regulations.gov. Use http://www.regulations.gov to submit or view public comments, access the index listing of the contents of the public docket, and to access those documents in the public docket that are available electronically. Once in the system, select “search,” then key in the docket ID number identified above.

Any comments related to this ICR should be submitted to EPA and OMB within 30 days of this notice. EPA's policy is that public comments, whether submitted electronically or in paper, will be made available for public viewing at http://www.regulations.gov as EPA receives them and without change, unless the comment contains copyrighted material, CBI, or other information whose public disclosure is restricted by statute.

Title: Tolerance Petitions for Pesticides on Food/Feed Crops and New Inert Ingredients.

ICR numbers: EPA ICR No. 0597.09; OMB Control No. 2070-0024.

Abstract: This information collection will enable EPA to collect adequate data to support the establishment of pesticide tolerances pursuant to section 408 of the Federal Food, Drug and Cosmetic Act (FFDCA). A pesticide may not be used on food or feed crops unless EPA has established a tolerance for the pesticide residues on that crop, or established an exemption from the requirement to have a tolerance. Responses to this collection are required to obtain tolerances or exemptions from tolerances for pesticides used on food or feed crops, pursuant to section 408 of FFDCA, 21 U.S.C. 346a, as amended by FQPA (Pub. L. 104-170). Confidential Business Information (CBI) submitted to EPA in response to this information collection is protected from disclosure under FIFRA section 10.

This ICR only applies to the information collection activities associated with the submission of a petition for a tolerance action. It is EPA's responsibility to ensure that the maximum residue levels likely to be found in or on food/feed crops are safe for human consumption through a careful review and evaluation of residue chemistry and toxicology data. In addition, it must ensure that adequate enforcement of the tolerance can be achieved through the testing of submitted analytical methods. If the data are adequate for EPA to determine that there is a reasonable certainty that no harm will result from aggregate exposure, the Agency will establish the tolerance or grant an exemption from the requirement of a tolerance.

Under the FFDCA, any person may petition EPA to propose the issuance of a regulation establishing, modifying, or revoking (a) a tolerance for a pesticide chemical residue in or on food, or (b) an exemption from the requirement to have a tolerance for such residue. Section 408 of FFDCA requires petitioners submit an information summary of the petition and of the data, information and arguments submitted or cited in support of the petition. In addition, EPA encourages petitioners to voluntarily submit additional data in support of their petitions to help the Agency determine whether there is a reasonable certainty that no harm will result from aggregate exposure.

Burden Statement: The annual public reporting and recordkeeping burden for this collection of information is estimated to average 1,726 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements which have subsequently changed; train personnel to be able to respond to a collection of information; search data sources; complete and review the collection of information; and transmit or otherwise disclose the information.

Respondents/Affected Entities: Any person seeking a tolerance action.

Estimated Number of Respondents: 150.

Frequency of Response: As Needed.

Estimated Total Annual Hour Burden: 258,900.

Estimated Total Annual Labor Cost: $23,973,150.

Changes in the Estimates: There is no increase or decrease in hours in the total estimated burden currently identified in the OMB Inventory of Approved ICR Burdens.

Dated: July 11, 2006
Sara Hisel McCoy,
Acting Director, Collection Strategies Division.

[FR Doc. E6-11609 Filed 7-20-06; 8:45 am]

BILLING CODE 6560-50-P